DEPARTMENT OF HOMELAND SECURITY

Federal Emergency Management Agency

[Docket ID FEMA-2021-0002; Internal Agency Docket No. FEMA-B-2163]

Proposed Flood Hazard Determinations

AGENCY: Federal Emergency Management Agency, Homeland Security (DHS).

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 13, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2163, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Broward County, Florida and Incorporated Areas
Project: 15-04-4157S Preliminary Date: December 31, 2019 and February 25, 2021
City of Coconut Creek | Utilities and Engineering Building, 5295 Johnson Road, Coconut Creek, FL 33073.
City of Cooper City | Building Department, 9090 Southwest 50th Place, Cooper City, FL 33328.
City of Dania Beach | City Hall, 100 West Dania Beach Boulevard, Dania Beach, FL 33004.
City of Deerfield Beach | Engineering Department, 200 Goolsby Boulevard, Deerfield Beach, FL 33442.
City of Fort Lauderdale | Department of Sustainable Development, 700 Northwest 19th Avenue, Fort Lauderdale, FL 33311.
City of Hallandale Beach | Public Works Department, 630 Northwest 2nd Street, Hallandale Beach, FL 33009.
City of Hollywood | Public Utilities Department, 1621 North 14th Avenue, Hollywood, FL 33022.
City of Lauderdale Lakes | Development Services Department, 3521 Northwest 43rd Avenue, Lauderdale Lakes, FL 33319.
City of Lauderhill | Engineering/GIS Division, 5581 West Oakland Park Boulevard, Lauderhill, FL 33313.
City of Lighthouse Point | Public Works Department, 4730 Northeast 21st Terrace, Lighthouse Point, FL 33064.
City of Margate | Department of Environmental and Engineering Services, 901 Northwest 66th Avenue, Suite A, Margate, FL 33063.
City of Miramar | Public Works Department, 13900 Pembroke Road, Building L, Miramar, FL 33027.
City of Oakland Park | Planning and Zoning Division, 5399 North Dixie Highway, Suite 3, Oakland Park, FL 33334.
City of Pembroke Pines | Engineering Division, 8300 South Palm Drive, Pembroke Pines, FL 33025.
City of Plantation | Engineering Department, 401 Northwest 70th Terrace, Plantation, FL 33317.
City of Pompano Beach | Building Department, 100 West Atlantic Boulevard, 3rd Floor, Pompano Beach, FL 33060.
City of Sunrise | Engineering Division, 1601 Northwest 136th Avenue, Building A, Sunrise, FL 33323.
City of Tamarac | Public Works and Engineering Building Department, 6011 Nob Hill Road, 1st Floor, Tamarac, FL 33321.
City of West Park | City Hall, 1965 South State Road 7, West Park, FL 33023.
City of Weston | Public Works Department, 2599 South Post Road, Weston, FL 33327.
City of Wilton Manors | Community Development Services, 2020 Wilton Drive, 2nd Floor, Wilton Manors, FL 33305.
Seminole Tribe of Florida | Seminole Tribe of Florida Headquarters, 6300 Stirling Road, Hollywood, FL 33024.
Town of Davie | Building and Zoning Division, 6591 Orange Drive, Davie, FL 33314.
Town of Hillsboro Beach | Town Hall, 1210 Hillsboro Mile, Hillsboro Beach, FL 33062.
Town of Lauderdale-By-The-Sea | Public Works Department, 4501 North Ocean Drive, Lauderdale-By-The-Sea, FL 33308.
Town of Pembroke Park | Engineering Department, 3150 Southwest 52nd Avenue, Pembroke Park, FL 33023.
Town of Southwest Ranches | Public Works Department, 13400 Griffin Road, Southwest Ranches, FL 33330.
Unincorporated Areas of Broward County | Broward County Government Center West, 1 North University Drive, Plantation, FL 33324.
Village of Lazy Lake | Village Hall, 2250 Lazy Lane, Lazy Lake, FL 33305.
Village of Sea Ranch Lakes | Village Hall, 1 Gatehouse Road, Sea Ranch Lakes, FL 33308.

[FR Doc. 2021-19734 Filed 9-13-21; 8:45 am]

BILLING CODE 9110-12-P